DEPARTMENT OF COMMERCE

Submission for OMB Review; Comment Request

The Department of Commerce will submit to the Office of Management and Budget (OMB) for clearance the following proposal for collection of information under the provisions of the Paperwork Reduction Act.

Agency: U.S. Census Bureau.

Title: Spatial, Address, and Imagery Data Program (SAID).

OMB Control Number: 0607-XXXX.

Form Number(s): N/A.

Type of Request: Regular submission.

Needs and Uses: The Spatial, Address, and Imagery Data (SAID) Program, formerly known as the Geographic Support System Partnership Program, is one of seven voluntary geographic partnership programs that collect data to update the U.S. Census Bureau's geographic database of addresses, streets, boundaries, and imagery known as the Master Address File/Topologically Integrated Geocoding and Referencing (MAF/TIGER) System.

The data within the MAF/TIGER System supports the Census Bureau's geographic framework for data collection, tabulation and dissemination. This framework enables the Census Bureau field personnel to navigate to the appropriate locations for data collection, and it enables the Census Bureau to accurately link demographic data from surveys and the decennial census to locations and areas, such as cities, school districts, and counties for data tabulation and dissemination.

The data collected in the SAID Program is also used to define geographic boundaries, including census blocks, and to place households and group quarters in a specific census block. The SAID Program follows the process below:

1. The Census Bureau invites participants, including tribal, state, county, and local governments; federal agencies; and other organizations each fiscal year.

2. Participants provide a current address data with associated location points and attributes, spatial data, and/or imagery that is no more than two years old.

3. Participants upload the requested data files to a Census Bureau Secure File Transfer Protocol site, per Census Bureau procedures, or provide a media from which the data can be acquired.

4. The Census Bureau updates the MAF/TIGER System with the address and street centerline data provided by the participants and uses the provided imagery for quality control and change detection.

5. The Census Bureau uses these updated addresses, streets, and imagery to support Census Bureau field operations, surveys, and data tabulation.

The SAID Program provides the Census Bureau with a continuous method to obtain current, accurate, and complete address, spatial, and imagery data. The SAID Program helps the Census Bureau maintain its geographic framework for data collection, tabulation, and dissemination between decennial censuses and to support ongoing programs, such as the American Community Survey and the Population Estimates Program. Over the past six years, the SAID Program, under the name of the Geographic Support System Partnership Program, has enabled the Census Bureau to update addresses and street centerlines across the country, with participation covering nearly 94 percent of the housing units in the nation. Moving forward, the SAID Program will continue to focus on acquiring addresses, street centerlines, and imagery in targeted areas. The Geographic Support System Partnership Program was previously included in the Geographic Partnership Program Generic Clearance (OMB Control Number 0607-0795).

Affected Public: Tribal, state, county, and local governments and organizations.

Calculation of total burden | Burden hours per contact | Estimated number of respondents | FY 2019 total burden | FY 2020 total burden | FY 2021 total burden | FY19-FY21 total burden
Contact with Local Governments | 2 | 1,000 | 2,000 | 2,000 | 2,000 | 6,000
Acquisition of Local Data | 10 | 500 | 5,000 | 5,000 | 5,000 | 15,000
Total Burden | 12 |  | 7,000 | 7,000 | 7,000 | 21,000

Estimated Total Annual Cost to Public: $0. (This is not the cost of respondents' time, but the indirect costs respondents may incur for such things as purchases of specialized software or hardware needed to report, or expenditures for accounting or records maintenance services required specifically by the collection.)

Frequency: Annual collection.

Respondent's Obligation: Voluntary.

Legal Authority: Title 13 U.S.C. Sections 16, 141, and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-23860 Filed 10-31-18; 8:45 am]

BILLING CODE 3510-07-P